DEPARTMENT OF AGRICULTURE

Office of the Secretary

Notice of the National Agricultural Research, Extension, Education, and Economics Advisory Board Meeting

AGENCY: Research, Education, and Economics, USDA.

ACTION: Notice of meeting.

SUMMARY: In accordance with the Federal Advisory Committee Act, the United States Department of Agriculture announces a meeting of the National Agricultural Research, Extension, Education, and Economics Advisory Board.

DATES: The National Agricultural Research, Extension, Education, and Economics Advisory Board will meet on October 24-26, 2006.

ADDRESSES: The meeting will take place at the L'Enfant Plaza Hotel, 480 L'Enfant Plaza, SW., Washington, DC 20024. The public may file written comments before or up to two weeks after the meeting with the contact person. You may submit written comments by any of the following methods: E-mail: joseph.dunn@usda.gov; Fax: 202-720-6199; Mail/Hand Delivery/Courier: The National Agricultural Research, Extension, Education, and Economics Advisory Board; Research, Education, and Economics Advisory Board Office, Room 344-A, Jamie L. Whitten Building, United States Department of Agriculture, STOP 2255, 1400 Independence Avenue, SW., Washington, DC 20250-2255.

FOR FURTHER INFORMATION CONTACT: Joseph Dunn, Executive Director, or Shirley Morgan-Jordan, Program Support Coordinator, National Agricultural Research, Extension, Education, and Economics Advisory Board; telephone: (202) 720-3684;

SUPPLEMENTARY INFORMATION: On Tuesday, October 24, 2006, 10 a.m., an Orientation Session for new members and interested incumbent members will be held. The full Advisory Board Meeting will convene at 1:30 p.m. with introductory remarks provided by the Chair of the Advisory Board and a USDA senior official. There will be brief introductions by new Board members, incumbents, and guests followed by general Advisory Board Business. The meeting will adjourn at 5 p.m. Following adjournment of the meeting, an evening reception will be held from 6 p.m. to 9 p.m. On Wednesday, October 25, 2006, the meeting will reconvene at 8:30 a.m. with presentations and discussions throughout the day on agriculturally relevant Focus Topics, and adjourn by 5:30 p.m. The Honorable Secretary of Agriculture, Mike Johanns has been invited to provide remarks. On Thursday, October 26, 2006, the Focus Session will reconvene at 8:30 a.m. with a final Focus Session, followed by overall discussion of the meeting by the Board. An opportunity for public comment will be offered after this discussion session, and the Advisory Board Meeting will adjourn by 12:30 p.m. A variety of distinguished leaders and experts in the field of agriculture will provide remarks, including officials and/or designated experts from the five agencies of USDA's Research, Education, and Economics Mission area. Speakers will provide recommendations regarding ways the USDA can enhance its research, extension, education, and economic programs to protect our Nation's food, fiber and agricultural system. Opportunities for increased collaboration and partnerships with the public and private sectors will also be discussed.

Written comments by attendees or other interested stakeholders will be welcomed for the public record before and up to two weeks following the Board meeting (by close of business Thursday, November 9, 2006). All statements will become a part of the official record of the National Agricultural Research, Extension, Education, and Economics Advisory Board and will be kept on file for public review in the Research, Extension, Education, and Economics Advisory Board Office.

Done at Washington, DC this 24th day of October, 2006.
Gale Buchanan,
Under Secretary, Research, Education, and Economics.

[FR Doc. 06-8940 Filed 10-24-06; 11:31 am]

BILLING CODE 3410-22-P